DEPARTMENT OF ENERGY

[Docket Nos. ER02-2227-000, ER02-2228-000, ER02-2229-000, ER02-2230-000, ER02-2231-000, and ER02-2232-000]

Federal Energy Regulatory Commission Creed Energy Facility, LLC; Feather River Energy Center, LLC; Goose Haven Energy Center, LLC; Lambie Energy Center, LLC; Pajaro Energy Center, LLC; Wolfskill Energy Center, LLC; Notice of Issuance of Order

October 4, 2002.

Creed Energy Facility, LLC (Creed), Feather River Energy Center, LLC (Feather River), Goose Haven Energy Center, LLC (Goose Haven), Lambie Energy Center, LLC (Lambie), Pajaro Energy Center, LLC (Pajaro), and Wolfskill Energy Center, LLC (Wolfskill) (collectively, “Applicants”), filed applications requesting that the Commission accept rate schedules under which the Applicants will make wholesale sales of electric energy, capacity, replacement reserves, and certain ancillary services at market-based rates; reassign transmission capacity; and resell firm transmission rights. In addition, Applicants requested waiver of various Commission regulations. In particular, Applicants requests that the Commission grant blanket approval under 18 CFR Part 34 of all future issuances of securities and assumptions of liability.

On August 30, 2002, the Commission issued an Order granting requests for blanket approval under Part 34, subject to the following:

Any person desiring to be heard or to protest the blanket approval of issuances of securities or assumptions of liability by the Applicants should file a motion to intervene or protest with the Federal Energy Regulatory Commission, 888 First Street, NE, Washington, DC 20426, in accordance with rules 211 and 214 of the Commission's rules of practice and procedure (18 CFR 385.211 and 385.214).

Absent a request to be heard in opposition within this period, the Applicants are authorized to issue securities and assume obligations or liabilities as a guarantor, indorser, surety, or otherwise in respect of any security of another person; provided that such issuance or assumption is for some lawful object within the corporate purposes of the Applicants, compatible with the public interest, and is reasonably necessary or appropriate for such purposes.

The Commission reserves the right to require a further showing that neither public nor private interests will be adversely affected by continued approval of the Applicants' issuances of securities or assumptions of liability.

Notice is hereby given that the deadline for filing motions to intervene or protests, as set forth above, is October 17, 2002.

Copies of the full text of the Order are available from the Commission's Public Reference Branch, 888 First Street, NE, Washington, DC 20426. The Order may also be viewed on the Internet at http://www.ferc.fed.us/online/rims.htm (call 202-208-2222 for assistance). Comments, protests, and interventions may be filed electronically via the internet in lieu of paper. See, 18 CFR 385.2001(a)(1)(iii) and the instructions on the Commission's Web site at http://www.ferc.fed.us/efi/doorbell.htm.

Magalie R. Salas,
Secretary.

[FR Doc. 02-25799 Filed 10-10-02; 8:45 am]

BILLING CODE 6717-01-P